DEPARTMENT OF DEFENSE

Department of the Army

Notice of Availability of Novel Composite Material Technologies for Exclusive, Partially Exclusive or Non-Exclusive Licenses

AGENCY: Department of the Army, DOD.

ACTION: Notice of availability.

SUMMARY: The Department of the Army announces the general availability of exclusive, partially exclusive or non-exclusive licenses relative to novel composite material based technologies as described in U.S. Patent application “Method for Producing Nano-Textured Solid Surfaces” (U.S. Patent Application No. 10/318667). Any license shall comply with 35 U.S.C. 209 and 37 CFR part 404.

FOR FURTHER INFORMATION CONTACT: Michael D. Rausa, U.S. Army Research Laboratory, Office of Research and Technology Applications, ATTN: AMSRL-DP-T/Bldg. 459, Aberdeen Proving Ground, MD 21005-5425, telephone: (410) 278-5038.

SUPPLEMENTARY INFORMATION: None.

Luz D. Ortiz,
Army Federal Register Liaison Officer.

[FR Doc. 03-4404 Filed 2-24-03; 8:45 am]

BILLING CODE 3710-08-M